DEPARTMENT OF AGRICULTURE

Forest Service

Amador County Resource Advisory Committee

AGENCY: Forest Service, USDA.

ACTION: Notice of meeting.

SUMMARY: The Amador County Resource Advisory Committee will meet in Sutter Creek, California. The committee is meeting as authorized under the Secure Rural Schools and Community Self-Determination Act (Pub. L. 110-343) and in compliance with the Federal Advisory Committee Act. Project proposals will be discussed and voted on to determine which projects will be recommended to Eldorado National Forest Supervisor Ramior Villalvazo for approval and implementation.

DATES: The meeting will be held on January 18, 2011 beginning at 6 p.m.

ADDRESSES: The meeting will be held at 10877 Conductor Blvd., Sutter Creek, CA. Written comments should be sent to Frank Mosbacher; Forest Supervisor's Office; 100 Forni Road; Placerville, CA 95667. Comments may also be sent via e-mail to fmosbacher@fs.fed.us, or via facsimile to 530-621-5297.

All comments, including names and addresses when provided, are placed in the record and are available for public inspection and copying. The public may inspect comments received at 100 Forni Road; Placerville, CA 95667. Visitors are encouraged to call ahead to 530-622-5061 to facilitate entry into the building.

FOR FURTHER INFORMATION CONTACT: Frank Mosbacher, Public Affairs Officer, Eldorado National Forest Supervisors Office, (530) 621-5268.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: At that meeting the RAC will review project proposals submitted by the Forest Service and the public, listen to project proponents explain their projects, deliberate and vote on projects to recommend for approval and implementation and conduct RAC management business.

More information will be postd on the Eldorado National Forest Web site @http://www.fs.fed.us/r5/eldorado. A public comment opportunity will be made available following the business activity. Future meetings will have a formal public imput period for those following the yet to be developed public imput process.

Dated: January 5, 2011.
Ramiro Villalvazo,
Forest Supervisor.

[FR Doc. 2011-362 Filed 1-10-11; 8:45 am]

BILLING CODE 3410-11-P